DEPARTMENT OF HOMELAND SECURITY

Federal Emergency Management Agency

44 CFR Part 67

[Docket No. FEMA-D-7620]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed base flood elevations and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | # Depth in feet above ground. * Elevation in feet (NGVD) • Elevation in feet (NAVD): Existing | # Depth in feet above ground. * Elevation in feet (NGVD) • Elevation in feet (NAVD): Modified | Communities affected
CALIFORNIA
Santa Barbara County
Arroyo Burro Creek | Approximately 1,320 feet downstream of Cliff Drive | *7 | *6 | Santa Barbara County (Unincorporated Areas), City of Santa Barbara.
| Approximately 1,550 feet upstream of Foothill Road | None | *366 |
Overland Flow at Casiano Drive | At the intersection of Casiano Drive and Portofino Way | None | *126 | City of Santa Barbara.
| At downstream side of U.S. Highway 101 | None | *162 |
Overland Flow at Palermo Way | At the intersection of Palermo Way Drive and Barcelona Way | *109 | *112 | City of Santa Barbara.
| At downstream side of U.S. Highway 101 | *165 | *160 |
Arroyo Paredon | At confluence with Pacific Ocean | None | *8 | Santa Barbara County (Unincorporated Areas).
| Approximately 2,750 feet upstream of Foothill Road | None | *219 |
Tributary | At confluence with Arroyo Paredon | None | *33 | Santa Barbara County (Unincorporated Areas).
| Approximately 130 feet upstream of Foothill Road | None | *82 |
Devereaux Creek | At confluence with Pacific Ocean | None | *7 | Santa Barbara County (Unincorporated Areas), City of Goleta.
| Approximately 50 feet upstream of Southern Pacific Railroad | None | *97 |
Devereaux Creek | At confluence with Devereaux Creek | None | *23 | Santa Barbara County (Unincorporated Areas), City of Goleta.
Tributary 1 | Approximately 50 feet upstream of Southern Pacific Railroad | None | *95 |
Tributary 2 | At confluence with Devereaux Creek | None | *15 | Santa Barbara County (Unincorporated Areas), City of Goleta.
| Approximately 150 feet upstream of Southern Pacific Railroad | None | *60 |
Tributary 3 | At confluence with Devereaux Creek | None | *14 | Santa Barbara County (Unincorporated Areas), City of Goleta.
| Approximately 2,050 feet upstream of confluence with Devereaux Creek | None | *16 |
East Branch Toro Creek | At confluence with Toro Creek | None | *249 | Santa Barbara County (Unincorporated Areas).
| Approximately 60 feet upstream of State Highway 192 | None | *498 |
Fremont Creek | At confluence with San Jose Creek (East Valley Road) | None | *85 | Santa Barbara County (Unincorporated Areas).
| Approximately 910 feet upstream of Patterson Avenue | None | *153 |
Garrapata Creek | At confluence with Pacific Ocean | None | *8 | Santa Barbara County (Unincorporated Areas).
| Approximately 430 feet upstream of Toro Canyon Road (Third Crossing) | None | *456 |
Las Positas Creek | At confluence with Arroyo Burro | None | *58 | Santa Barbara County (Unincorporated Areas), City of Santa Barbara.
| Approximately 300 feet upstream of Modoc Road | None | *120 |
Northridge Creek | At confluence with Arroyo Burro | None | *295 | City of Santa Barbara.
| Approximately 2,425 feet upstream of Foothill Road | None | *408 |
San Jose Creek | Approximately 50 feet upstream of Calle Real | *56 | *55 | Santa Barbara County (Unincorporated Areas), City of Goleta.
| Approximately 810 feet upstream of Patterson Avenue | None | *107 |
San Roque Creek | At confluence with Arroyo Burro | *169 | *174 | City of Santa Barbara.
| Approximately 7,800 feet upstream of Ontare Road | None | *484 |
Toro Creek | At confluence with Pacific Rim | None | *10 | Santa Barbara County (Unincorporated Areas).
| At State Highway 192 (East Valley Road) | None | *494 |
City of Goleta
Maps available for inspection at the Goleta City Hall, 130 Cremona Drive, Suite B, Goleta, California.
Send comments to The Honorable Jean Blois, Mayor of the City of Goleta, 130 Cremona Drive, Suite B, Goleta, California 93117.
City of Santa Barbara
Maps available for inspection at the Santa Barbara City Administrator's Office, 735 Anacapa Street, Santa Barbara, California.
Send comments to Mr. James L. Armstrong, Santa Barbara City Administrator, P.O. Box 1990, Santa Barbara, California 93102-1990.
Santa Barbara County (Unincorporated Areas)
Maps available for inspection at the Santa Barbara County Department of Public Works, Water Resources Division, Flood Control and Water Conservation District, 123 East Anapamu Street, Santa Barbara, California.
Send comments to Mr. Michael F. Brown, Santa Barbara County Administrator, Santa Barbara County Department of Public Works, Water Resources Division, Flood Control and Water Conservation District, 123 East Anapamu Street, Santa Barbara, California 93101.
COLORADO
Douglas County
Sterling Gulch | Approximately 200 feet upstream of the confluence with Plum Creek | •5,524 | •5,525 | Douglas County (Unincorporated Areas)
| Approximately 1.7 miles upstream of the confluence with Plum Creek | None | •5,651 |
Plum Creek | At Highland Canal | •5,518 | •5,519 | Douglas County (Unincorporated Areas).
| At the confluence with East Plum Creek | •5,773 | •5,772 |
East Willow Creek | At the confluence with Willow Creek | None | •5,502 | Douglas County (Unincorporated Areas).
| Approximately 2.0 miles upstream of Rampart Rouge Road | None | •5,727 |
Willow Creek | Approximately 200 feet upstream of the confluence with South Platte River | None | •5,475 | Douglas County (Unincorporated Areas).
| Approximately 3.7 miles upstream of Rampart Rouge Road | None | •6,044 |
Little Willow Creek | At Waterloo Road | None | •5,552 | Douglas County (Unincorporated Areas).
| Approximately 700 feet upstream of Roxborough Park Road | None | •5,897 |
Big Dry Creek | At Douglas/Arapahoe County boundary | None | •5,685 | Douglas County (Unincorporated Areas).
| At Valley Road | None | •6,079 |
Tributary C | At the confluence with Big Dry Creek | None | •5,845 | Douglas County (Unincorporated Areas).
| Approximately 1.0 mile upstream of MacArthur Ranch Road | None | •6,091 |
Cherry Creek | Approximately 160 feet upstream of Douglas County boundary | •5,713 | •5,714 | Douglas County (Unincorporated Areas), Town of Parker.
| Approximately 0.8 mile upstream of the confluence with McMardo Gulch | •6,020 | •6,021 |
Drainageway 6604-01 | At the confluence with Louviers Gulch | None | •5,685 | Douglas County (Unincorporated Areas).
| Approximately 200 feet upstream of Moore Road | None | •5,764 |
Highlands Gulch | At the confluence with Plum Creek | •5,579 | •5,583 | Douglas County (Unincorporated Areas).
| Approximately 0.7 mile upstream of Highway 85 | None | •5,729 |
Oxide Draw | At the confluence with Plum Creek | •5,601 | •5,597 | Douglas County (Unincorporated Areas) .
| Approximately 1,200 feet upstream of Highway 85 | None | •5,690 |
Louviers Gulch | At the confluence with Plum Creek | •5,592 | •5,593 | Douglas County (Unincorporated Areas).
| Approximately 1.0 mile upstream of Field Road | None | •5,768 |
Lehigh Gulch | At the confluence with Indian Creek | None | •5,778 | Douglas County (Unincorporated Areas).
| Approximately 0.6 mile upstream of Horseshoe Trail Road | None | •5,965 |
Drainageway 6605-01 | At the confluence with Indian Creek | None | •5,652 | Douglas County (Unincorporated Areas).
| Approximately 0.8 mile upstream of the confluence with Indian Creek | None | •5,761 |
Drainageway 6600-02 | At the confluence with Plum Creek | •5,619 | •5,616 | Douglas County (Unincorporated Areas).
| Approximately 500 feet upstream of Highway 85 | None | •5,691 |
Daniels Park Drain | At the confluence with Plum Creek | None | •5,642 | Douglas County (Unincorporated Areas) .
| Approximately 1.0 mile upstream of Highway 85 | None | •5,814 |
Jarre Creek | At the confluence with Plum Creek | •5,772 | •5,769 | Douglas County (Unincorporated Areas).
| Approximately 2.3 miles upstream of Highway 67 | None | •6,040 |
East Plum Creek | At the confluence with Plum Creek | •5,773 | •5,772 | Douglas County (Unincorporated Areas).
| Approximately 0.6 mile upstream of railroad | •5,925 | •5,926 |
West Plum Creek | At the confluence with Plum Creek | •5,770 | •5,772 | Douglas County (Unincorporated Areas).
| Approximately 2.9 miles upstream of the confluence with Plum Creek | None | •5,842 |
Rainbow Creek | At the confluence with Indian Creek | None | •5,935 | Douglas County (Unincorporated Areas).
| Approximately 1.5 miles upstream of the confluence with Indian Creek | None | •6,090 |
Indian Creek | At the confluence with Plum Creek | •5,640 | •5,636 | Douglas County (Unincorporated Areas).
| Approximately 0.3 mile upstream of West Apache Way | None | •6,104 |
Hangmans Gulch | At the confluence with East Plum Creek | •6,103 | •6,100 | Douglas County (Unincorporated Areas), Town of Castle Rock.
| Approximately 0.5 mile upstream of Weedlands Drive | •6,431 | •6,473 |
Plum Creek Diversion Channel | Approximately 500 feet upstream of the confluence with Plum Creek | None | •5,695 | Douglas County (Unincorporated Areas).
| Approximately 0.6 mile upstream of the confluence with Plum Creek | •5,716 | •5,711 |
South Platte River | Approximately 1,700 feet downstream of County Road 97 | None | •6,090 | Douglas County (Unincorporated Areas).
| Approximately 1.6 miles upstream of County Road 97 | None | •6,440 |
Fourmile Creek | Approximately 90 feet upstream of the confluence with South Platte River | None | •6,444 | Douglas County (Unincorporated Areas).
| Approximately 7.8 miles upstream of the confluence with South Platte River | None | •8,357 |
Horse Creek | At the confluence with South Platte River | •6,604 | •6,408 | Douglas County (Unincorporated Areas).
| Approximately 600 feet upstream of State Highway 67 | None | •6,629 |
Trout Creek | At the confluence with Horse Creek | None | •6,629 | Douglas County (Unincorporated Areas).
| Approximately 0.8 mile upstream of Lodge Drive | None | •6,743 |
West Creek | At the confluence with Horse Creek | None | •6,629 | Douglas County (Unincorporated Areas).
| At Douglas/Teller County boundary | None | •7,578 | Douglas County (Unincorporated Areas).
Bayou Gulch | At the confluence with Cherry Creek | •6,000 | •6,002 | Douglas County (Unincorporated Areas).
| Approximately 0.4 mile upstream of the confluence with Cherry Creek | •6,023 | •6,022 |
Platte Canyon Reservoir | Approximately 600 feet upstream of the confluence with South Platte River | None | •5,539 | Douglas County (Unincorporated Areas).
| At Waterloo Road | None | •5,539 |
Sterling Gulch | Shallow Flooding—various locations | None | #2 | Douglas County (Unincorporated Areas).
Big Dry Creek, Tributary C | Shallow Flooding—various locations | None | #2-#3 | Douglas County locations (Unincorporated Areas).
Big Dry Creek | Shallow Flooding—various locations | None | #1-#3 | Douglas County (Unincorporated Areas).
Little Willow Creek | Shallow Flooding—various locations | None | #1 | Douglas County (Unincorporated Areas).
Willow Creek | Shallow Flooding—various locations | None | #1 | Douglas County (Unincorporated Areas).
Louviers Gulch | Shallow Flooding | None | #2 | Douglas County (Unincorporated Areas).
Drainageway 6604-01 | Shallow Flooding—various locations | None | #2 | Douglas County (Unincorporated Areas).
Plum Creek | Shallow Flooding—various locations | None | #2 | Douglas County (Unincorporated Areas).
Highlands Gulch and Oxide Draw | Shallow flooding between railroad and U.S. 85 and between Highlands Gulch and Oxide Draw | None | #2 | Douglas County (Unincorporated Areas).
Indian Creek | Shallow Flooding | None | #2 | Douglas County (Unincorporated Areas).
Town of Castle Rock
Maps available for inspection at the Town of Castle Rock Utilities Department, 175 Kellogg Court, Castle Rock, Colorado.
Send comments to The Honorable Millie Bennett, Mayor of the Town of Castle Rock, Castle Rock Town Hall, 100 North Wilcox Street, Castle Rock, Colorado 80104.
Douglas County (Unincorporated Areas).
Maps available for inspection at the Douglas County Public Works, Engineering Division, 100 Third Street, Castle Rock, Colorado.
Send comments to Douglas County Commissioners, 100 Third Street, Castle Rock, Colorado 80104.
Town of Parker
Maps available for inspection at the Town of Park Stormwater Utility, Public Works Department, 20120 East Mainstreet, Parker, Colorado.
Send comments to The Honorable Gary Lasater, Mayor of the Town of Parker, 20120 East Mainstreet, Parker, Colorado 80138.
NORTH CAROLINA
Duplin County
Angola Creek | At the confluence with Cypress Creek | None | •49 | Duplin County (Unincorporated Areas).
| Approximately 0.3 mile upstream of Lightwood Bridge Road | None | •51 |
Back Swamp | At the confluence with Cypress Creek | None | •52 | Duplin County (Unincorporated Areas).
| At the Duplin/Onslow County boundary | None | •58 |
Tributary 2 | At the confluence with Back Swamp | None | •59 | Duplin County (Unincorporated Areas).
| Approximately 0.4 mile upstream of Fountaintown Road | None | •72 |
Tributary 4 | At the confluence with Back Swamp Tributary 3 | None | •67 | Duplin County (Unincorporated Areas).
| Approximately 0.7 mile upstream of State Route 111 | None | •87 |
Tributary 5 | At the confluence with Back Swamp Tributary 4 | None | •69 | Duplin County (Unincorporated Areas).
| Approximately 0.7 mile upstream of State Route 111 | None | •87 |
Bear Marsh Branch | At the confluence with Goshen Swamp | None | •94 | Duplin County (Unincorporated Areas).
| Approximately 1.8 miles upstream of Beautancus Road | None | •137 |
Bear Swamp | At the confluence with Goshen Swamp | None | •93 | Duplin County (Unincorporated Areas).
| Approximately 0.5 mile upstream of Warren Road | None | •131 |
Tributary | At the confluence with Bear Swamp | None | •108 | Duplin County (Unincorporated Areas).
| Approximately 500 feet downstream of Warren Road | None | •164 |
Beaverdam Branch (near Kenansville) | At the confluence of Maple Branch | None | •86 | Duplin County (Unincorporated Areas).
| Approximately 0.3 mile upstream of Doctor Williams Road | None | •93 |
Beaverdam Branch (near Scotts Store) | At the confluence with Northeast Cape Fear River | None | •80 | Duplin County (Unincorporated Areas).
| Approximately 100 feet downstream of White Flash Road | None | •100 |
Beaverdam Branch (near Gracys Crossroads) | At the confluence with Great Branch | None | •95 | Duplin County (Unincorporated Areas).
| Approximately 0.4 mile upstream of Richard Rouse Road | None | •108 |
Big Beaverdam Branch | At the confluence with Maxwell Creek | None | •65 | Duplin County (Unincorporated Areas).
| Approximately 0.8 mile upstream of railroad | None | •98 |
Big Beaverdam Creek | At the confluence with Rockfish Creek | None | •69 | Duplin County (Unincorporated Areas).
| Approximately 1.7 miles upstream of Old Camp Road | None | •97 |
Big Branch | At the confluence with Bear Swamp | None | •111 | Duplin County (Unincorporated Areas).
| Approximately 1.8 miles upstream of the confluence with Bear Swamp | None | •129 |
Buck Marsh Branch | At the confluence with Northeast Cape Fear River | None | •83 | Duplin County (Unincorporated Areas).
| At the Duplin/Wayne County boundary | None | •93 |
Buckhall Creek | At the confluence of Stewarts Creek (near Carroll) | None | •92 | Duplin County (Unincorporated Areas).
| Approximately 1.3 miles upstream of Buck Hall Creek Road | None | •103 |
Bulltail Creek | At the confluence with Doctors Creek | None | •58 | Duplin County (Unincorporated Areas).
| At the Duplin/Sampson County boundary | None | •63 |
Burn Coat Creek | At the confluence with Northeast Cape Fear River | None | •63 | Duplin County (Unincorporated Areas).
| Approximately 0.7 mile upstream of Maxwell Mill Road | None | •93 |
Cabin Creek | At the confluence with Limestone Creek | None | •55 | Duplin County (Unincorporated Areas).
| Approximately 0.9 mile upstream of State Route 111 | None | •83 |
Camp Branch | At the confluence with Northeast Cape Fear River | None | •70 | Duplin County (Unincorporated Areas).
| Approximately 0.8 mile upstream of Woodland Church Road | None | •91 |
Cow Hole Branch | At the confluence with Goshen Swamp | None | •96 | Duplin County (Unincorporated Areas).
| Approximately 1.3 miles upstream of the confluence with Goshen Swamp | None | •106 |
| At the confluence with Burn Coat Creek | None | •94 | Duplin County (Unincorporated Areas).
| Approximately 1.1 miles upstream of Jimmy Lee Road | None | •114 |
Cypress Creek: | At the confluence with Northeast Cape Fear River | None | •33 | Duplin County (Unincorporated Areas).
| Approximately 0.6 mile upstream of Cypress Creek Road | None | •51 |
Tributary 1 | At the confluence with Cypress Creek | None | •38 | Duplin County (Unincorporated Areas).
| Approximately 1.6 miles upstream of Maready Road | None | •73 |
Tributary 2 | At the confluence with Cypress Creek Tributary 1 | None | •44 | Duplin County (Unincorporated Areas).
| Approximately 1.3 miles upstream of the confluence with Cypress Creek Tributary 1 | None | •53 |
Dark Branch | At the confluence with Northeast Cape Fear River | None | •53 | Duplin County (Unincorporated Areas).
| Approximately 1.4 miles upstream of Dark Branch Road | None | •86 |
Doctors Creek | At the confluence with Rockfish Creek | None | •39 | Duplin County (Unincorporated Areas).
| At the Duplin/Sampson County boundary | None | •86 |
Dufis Creek | At the confluence with Rockfish Creek | None | •46 | Duplin County (Unincorporated Areas).
| Approximately 250 feet upstream of Wellstown Road | None | •62 |
Elder Branch | At the confluence with Maxwell Creek | None | •61 | Duplin County (Unincorporated Areas).
| Approximately 0.2 mile upstream of Hamilton Road | None | •81 |
Fussell Mill Branch | At the confluence with Rockfish Creek | None | •45 | Duplin County (Unincorporated Areas).
| Approximately 0.9 mile upstream of Cornwallis Road | None | •64 |
Goshen Swamp | At the confluence with Northeast Cape Fear River | None | •59 | Duplin County (Unincorporated Areas), Town of Calypso.
| At the Duplin/Sampson County boundary | None | •117 |
Great Branch | At the confluence with Northeast Cape Fear River | None | •77 | Duplin County (Unincorporated Areas).
| Approximately 1.8 miles upstream of State Route 903 | None | •95 |
Grove Branch | At the confluence with Northeast Cape Fear River | None | •52 | Duplin County (Unincorporated Areas), Town of Kenansville.
| Approximately 2.7 miles upstream of Abner Phillips Road | None | •106 |
Herring Marsh Run | At the confluence with Goshen Swamp | None | •71 | Duplin County (Unincorporated Areas).
| Approximately 0.4 mile upstream of Kinsey Mill Road | None | •110 |
Island Creek | At the confluence with Northeast Cape Fear River | None | •30 | Duplin County (Unincorporated Areas).
| Approximately 1.2 miles upstream of Rosemary Road | None | •52 |
Island Creek Tributary | At the confluence with Island Creek | None | •31 | Duplin County (Unincorporated Areas).
| Approximately 1.5 miles upstream of Hanchey Road | None | •35 |
Juniper Branch | At the confluence with Matthews Creek | None | •91 | Duplin County (Unincorporated Areas).
| Approximately 0.3 mile upstream of Matthews Creek | None | •103 |
King Branch | At the confluence with Nahunga Creek | None | •93 | Duplin County (Unincorporated Areas).
| Approximately 0.8 mile upstream of Veachs Mill Road | None | •119 |
Ladds Branch | At the confluence with Polly Run Creek | None | •113 | Duplin County (Unincorporated Areas).
| Approximately 1.2 miles upstream of Oak Ridge Avenue | None | •125 |
Limestone Creek | At the confluence with Northeast Cape Fear River | None | •46 | Duplin County (Unincorporated Areas).
| Approximately 1.8 miles upstream of State Route 24 | None | •85 |
Little Beaverdam Creek | At the confluence with Big Beaverdam Creek | None | •75 | Duplin County (Unincorporated Areas).
| Approximately 0.1 mile upstream of Halls Pond Road | None | •75 |
Little Limestone Creek | At the confluence with Limestone Creek | None | •65 | Duplin County (Unincorporated Areas).
| Approximately 0.5 mile upstream of Church Road | None | •97 |
Little Rockfish Creek | At the confluence with Rockfish Creek | None | •28 | Duplin County (Unincorporated Areas), Town of Wallace.
| Approximately 0.7 mile upstream of State Route 41 | None | •45 |
Maple Branch | At the confluence with Goshen Swamp | None | •73 | Duplin County (Unincorporated Areas).
| Approximately 0.6 mile upstream of Summerlins Crossroad Road | None | •85 |
Maple Creek | At the confluence with Limestone Creek | None | •46 | Duplin County (Unincorporated Areas).
| Approximately 1.9 miles upstream of Limestone Creek | None | •63 |
Marsh Branch | At the confluence with Grove Creek | None | •78 | Duplin County (Unincorporated Areas).
| Approximately 1.8 miles upstream of State Route 24/50 | None | •94 |
Matthews Creek | At the confluence with Northeast Cape Fear River | None | •73 | Duplin County (Unincorporated Areas).
| Approximately 3.2 miles upstream of State Route 111/903 | None | •106 |
Maxwell Creek | At the confluence with Stockinghead Creek | None | •47 | Duplin County (Unincorporated Areas), Town of Magnolia.
| Approximately 0.6 mile upstream of I-40 | None | •101 |
Mill Branch (near Kornegan) | At the confluence with Burn Coat Creek | None | •93 | Duplin County (Unincorporated Areas).
| Approximately 0.1 mile downstream of State Route 11 | None | •105 |
Mill Branch (near Teachey) | At the confluence with Little Rockfish Creek | None | •45 | Duplin County (Unincorporated Areas), Town of Wallace.
| Approximately 250 feet downstream with Stallings Road | None | •52 |
Mill Creek | At the confluence with Doctors Creek | None | •51 | Duplin County (Unincorporated Areas).
| At the Duplin/Sampson County boundary | None | •55 |
Miller's Creek | At the confluence with Stewarts Creek (near Carroll) | None | •83 | Duplin County (Unincorporated Areas), Town of Magnolia
| Approximately 1.4 miles upstream of Beasley Torrans Road | None | •102 |
Mire Branch | At the confluence with Northeast Cape Fear River | None | •83 | Duplin County (Unincorporated Areas).
| Approximately 1.4 miles upstream of Garner Chapel Road | None | •108 |
Muddy Creek | At the confluence with Northeast Cape Fear River | None | •36 | Duplin County (Unincorporated Areas), Town of Beulaville.
| Approximately 0.7 mile upstream of Lyman Road | None | •64 |
Tributary | At the confluence with Muddy Creek | None | •47 | Duplin County (Unincorporated Areas).
| Approximately 3.2 miles upstream of State Route 111 | None | •82 |
Murpheys Creek | At the confluence with Rockfish Creek | None | •72 | Duplin County (Unincorporated Areas).
| Approximately 1.3 miles upstream of Waycross Road | None | •95 |
Tributary | At the confluence with Murpheys Creek | None | •81 | Duplin County (Unincorporated Areas).
| Approximately 0.6 mile upstream of Bonham Road | None | •91 |
Nahunga Creek | At the confluence with Goshen Swamp | None | •78 | Duplin County (Unincorporated Areas).
| Approximately 100 feet downstream of Revelle Road | None | •116 |
Northeast Cape Fear River | At the Duplin/Pender County boundary | None | •26 | Duplin County (Unincorporated Areas).
| At the Town of Mount Olive Extraterritorial Jurisdiction limits | None | •126 |
Oakie Branch | At the confluence with Northeast Cape Fear River | None | •30 | Duplin County (Unincorporated Areas).
| Approximately 0.6 mile upstream of Jack Dale Road | None | •50 |
Paget Branch | At the confluence with Rockfish Creek | None | •45 | Duplin County (Unincorporated Areas), Town of Wallace.
| Approximately 0.3 mile upstream of High School Road | None | •67 |
Panther Branch (near Faison) | At the confluence with Goshen Swamp | None | •107 | Duplin County (Unincorporated Areas), Town of Faison.
| Approximately 0.3 mile upstream of NC 117 | None | •130 |
Panther Creek | At the confluence with Northeast Cape Fear River | None | •60 | Duplin County (Unincorporated Areas).
| Approximately 2.8 miles upstream of Kitty Noecker Road | None | •101 |
Persimmon Branch | At the confluence with Northeast Cape Fear River | None | •47 | Duplin County (Unincorporated Areas).
| Approximately 2.2 miles upstream of South Dobson Chapel Road | None | •76 |
Pharisee Creek | At the confluence with Bulltail Creek | None | •58 | Duplin County (Unincorporated Areas).
| At the Duplin/Sampson County boundary | None | •58 |
Poley Branch | At the confluence with Buck Marsh Branch | None | •86 | Duplin County (Unincorporated Areas).
| Approximately 1.9 miles upstream of Buck Marsh Branch | None | •105 |
Polly Run Creek | At the confluence with Northeast Cape Fear River | None | •107 | Duplin County (Unincorporated Areas).
| Approximately 0.3 mile upstream of Garner Chapel Road | None | •113 |
Pudding Branch | At the confluence with Maple Branch | None | •108 | Duplin County (Unincorporated Areas).
| Approximately 0.2 mile downstream of State Route 403 | None | •122 |
Reedy Branch (near Blizzards Crossroads) | At the confluence with Mire Branch | None | •107 | Duplin County (Unincorporated Areas).
| Approximately 0.3 mile upstream of the confluence with Mire Branch | None | •113 |
Reedy Branch (near Faison) | At the confluence with Goshen Swamp | None | •105 | Duplin County (Unincorporated Areas), Town of Faison.
| Approximately 1.3 miles upstream of Bill Clifton Road | None | •134 |
Rockfish Creek | At the confluence with Northeast Cape Fear River | None | •26 | Duplin County (Unincorporated Areas), Town of Wallace.
| Approximately 0.9 mile upstream of Blue Newkirk Road | None | •93 |
Sawyer Branch | At the confluence with Matthews Creek | None | •100 | Duplin County (Unincorporated Areas).
| Approximately 0.7 mile upstream of Guy Sanderson Road | None | •121 |
Stewarts Creek (near Carroll) | At the Duplin/Sampson County boundary | None | •83 | Duplin County (Unincorporated Areas), Town of Warsaw.
| Approximately 1.7 miles upstream of Route 117 | None | •123 |
Stewarts Creek (near Friendship) | At the confluence of Nahunga Creek | None | •84 | Duplin County (Unincorporated Areas).
| Approximately 0.8 mile upstream of Sammy Godwin Lane | None | •100 |
Stocking Head Creek | At the confluence with Northeast Cape Fear River | None | •38 | Duplin County (Unincorporated Areas).
| Approximately 700 feet upstream of South Dobson Chapel Road | None | •65 |
Taylor Creek | At the confluence with Dufis Creek | None | •51 | Duplin County (Unincorporated Areas), Town of Rose Hill.
| Approximately 2.2 miles upstream of Brices Store Road | None | •87 |
Turkey Creek | At the Duplin/Sampson County boundary | None | •117 | Duplin County (Unincorporated Areas).
| Approximately 0.8 mile upstream of Blackmore Road | None | •133 |
Welch Branch | At the confluence with Dark Branch | None | •56 | Duplin County (Unincorporated Areas).
| Approximately 2.8 miles upstream of the confluence with Dark Branch | None | •86 |
White Oak Branch | At the confluence with Panther Creek | None | •66 | Duplin County (Unincorporated Areas).
| Approximately 1.6 miles upstream of the confluence of Panther Creek | None | •89 |
Whiteoak Branch | At the confluence with Goshen Swamp | None | •98 | Duplin County (Unincorporated Areas), Town of Calypso.
| At the Towns of Calypso and Mount Olive Extraterritorial Jurisdiction limits | None | •153 |
Wolfscape Branch | At the confluence with Polly Run Creek | None | •113 | Duplin County (Unincorporated Areas).
| Approximately 0.5 mile upstream of Bethel Church Road | None | •129 |
Town of Beulaville
Maps available for inspection at the Duplin County Planning Department, 224 Seminary Street, Kenansville, North Carolina.
Send comments to The Honorable Wilbur Hussey, Mayor of the Town of Beulaville, P.O. Box 175, North Carolina 28518-0130.
Town of Calypso
Maps available for inspection at the Duplin County Planning Department, 224 Seminary Street, Kenansville, North Carolina.
Send comments to The Honorable Tom Reaves, Mayor of the Town of Calypso, P.O. Box 327, Calypso, North Carolina 28325.
Duplin County (Unincorporated Areas)
Maps available for inspection at the Duplin County Planning Department, 224 Seminary Street, Kenansville, North Carolina.
Send comments to Mr. Fred Eldridge, Duplin County Manager, P.O. Box 910, Kenansville, North Carolina 28349.
Town of Kenansville
Maps available for inspection at the Duplin County Planning Department, 224 Seminary Street, Kenansville, North Carolina.
Send comments to The Honorable Betty Long, Mayor of the Town of Kenansville, P.O. Box 370, Kenansville, North Carolina 28349.
Town of Faison
Maps available for inspection at the Faison Town Hall, 110 East Center Street, Faison, North Carolina.
Send comments to The Honorable William J. Igoe, Mayor of the Town of Faison, P.O. Box 365, Faison, North Carolina 28341-0365.
Town of Magnolia
Maps available for inspection at the Duplin County Planning Department, 224 Seminary Street, Kenansville, North Carolina.
Send comments to The Honorable Corbett Quinn, Mayor of the Town of Magnolia, P.O. Box 459, Magnolia, North Carolina 28453-0459.
Town of Rose Hill
Maps available for inspection at the Rose Hill Town Hall, 103 South Railroad Street, Rose Hill, North Carolina.
Send comments to Mr. Thomas Drum, Rose Hill Town Administrator, P.O. Box 8, Rose Hill, North Carolina 28458.
Town of Wallace
Maps available for inspection at the Wallace Town Hall, 311 East Murphey Street, Wallace, North Carolina.
Send comments to The Honorable Charles Farrior, Jr., Mayor of the Town of Wallace, 311 East Murphey Street, Wallace, North Carolina 28466.
Town of Warsaw
Maps available for inspection at the Warsaw Town Hall, 128 West Bay Street, Warsaw, North Carolina.
Send comments to The Honorable Winn Batten, Mayor of the Town of Warsaw, 128 West Bay Street, Warsaw, North Carolina 28398.

(Catalog of Federal Domestic Assistance No. 83.100, “Flood Insurance.”)
Dated: May 16, 2005.
David I. Maurstad,
Acting Director, Mitigation Division, Emergency Preparedness and Response Directorate.

[FR Doc. 05-10302 Filed 5-23-05; 8:45 am]

BILLING CODE 9110-12-P